DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

[Docket No. FRA-2001-9420]

Applicant: Norfolk Southern Corporation, Mr. J.P. Young, Assistant Division Superintendent, Pittsburgh Division, 425 Holiday Drive, Pittsburgh, Pennsylvania 15220.

Norfolk Southern Corporation (NS) seeks relief from the requirements of part 236, § 236.566, of the Rules, Standard and Instructions to the extent that NS be permitted to operate non-equipped locomotives in automatic cab signal territory on the two main tracks between CP-Alliance, milepost RD 66.9, near Alliance, Ohio, and CP-Rave, milepost RD 85.9, near Ravenna, Ohio, on the Pittsburgh Division and between milepost RD 102.0, near Macedonia, Ohio, and Drawbridge, milepost RD 123.6, near Cleveland, Ohio, on the Dearborn Division for the following operations:

1. Wire trains, work trains, wreck trains, and ballast cleaners to and from work;

2. Engines and rail diesel cars moving to and from shops; and

3. Engines used in switching and transfer service, with or without cars, not exceeding 20 mph.

Applicant's justification for relief: Exemptions have been previously granted for operation of non-equipped locomotives in cab signal territory at other locations on NS and the relief requested in this application would be consistent with currently granted exceptions.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on May 29, 2001.
Grady C. Cothen, Jr.,
Deputy Associate Administrator for Safety Standards and Program Development.

[FR Doc. 01-13934 Filed 6-1-01; 8:45 am]

BILLING CODE 4910-06-P